DEPARTMENT OF HEALTH AND HUMAN SERVICES

Health Resources and Services Administration

National Advisory Council on the National Health Service Corps; Notice of Meeting

In accordance with section 10(a)(2) of the Federal Advisory Committee Act (Public Law 92-463), notice is hereby given of the following meeting:

Name: National Advisory Council on the National Health Service Corps.

Dates and Times: June 23, 2005, 8:30 a.m.-6 p.m.; June 24, 2005, 8:30 a.m.-6 p.m.; June 25, 2005, 9 a.m.-5:30 p.m.; and June 26, 2005, 8 a.m.-10:30 a.m.

Place: Hilton Alexandria Mark Center, 5000 Seminary Road, Alexandria, Virginia 22311,

703-845-1010.

Status: The meeting will be open to the public.

Agenda: The Council will review the National Health Service Corps legislation in effort to conduct a full orientation for new members. Program staff and Agency management will provide guidance on program operations and opportunities for future Council consideration.

For Further Information Contact: Tira Robinson-Patterson, Division of National Health Service Corps, Bureau of Health Professions, Health Resources and Services Administration, Parklawn Building, Room 8A-55, 5600 Fishers Lane, Rockville, MD 20857; telephone: (301) 594-4140.

Dated: June 9, 2005.
Tina M. Cheatham,
Director, Division of Policy Review and Coordination.

[FR Doc. 05-11784 Filed 6-14-05; 8:45 am]

BILLING CODE 4165-15-P